DEPARTMENT OF AGRICULTURE

Forest Service

Northern New Mexico Resource Advisory Committee Meeting

AGENCY: Forest Service, USDA.

ACTION: Notice of meeting.

SUMMARY: The Northern New Mexico Resource Advisory Committee will meet in Albuquerque, New Mexico. The committee is meeting as authorized under the Secure Rural Schools and Community Self-Determination Act of 2000 (Pub. L. 110-343) and in compliance with the Federal Advisory Committee Act (5 U.S.C. Appendix 2 §§ 1-15, October 6, 1972, as amended 1976, 1980 and 1982). The purpose is to hold the first meeting of the newly formed committee.

DATES: The meeting will be held on June 22, 2010, beginning at 10 a.m. A second day of the meeting, on June 23, 2010, will begin at 8 a.m.

ADDRESSES: The meeting will be held at the Drury Inn, 4310 The 25 Way, NE., in the Taos Room, Albuquerque, New Mexico. Written comments should be sent to Ignacio Peralta, Carson National Forest, 208 Cruz Alta Road, Taos, NM 87571. Comments may also be sent via e-mail to iperalta@fs.fed.us or via facsimile to 575-758-6213.

All comments, including names and addresses when provided, are placed in the record and are available for public inspection and copying. The public may inspect comments received at Carson National Forest, 208 Cruz Alta Road, Taos, NM. Visitors are encouraged to call ahead to 575-758-6344 to facilitate entry into the building.

FOR FURTHER INFORMATION CONTACT: RAC Coordinator USDA, Carson National Forest: Ignacio Peralta, 575-758-6344, 208 Cruz Alta Rd., Taos, NM 87571. E-mail: iperalta@fs.fed.us. RAC Coordinator, USDA, Santa Fe National Forest: Ruben Montes, 505-438-5356, 11 Forest Lane, Santa Fe, NM 87508. E-mail: rmontes@fs.fed.us.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: (1) Introductions of all committee members, replacement members, and Forest Service personnel; (2) Selection of a chairperson by the committee members; (3) Review of Act and RAC Charter; (4) Administrative budget; (5) Receive materials explaining the process for considering and recommending Title II projects; and (6) Public Comment.

Persons who wish to bring related matters to the attention of the Committee may file written statements with the Committee staff before or after the meeting.

Dated: May 21, 2010.
Kendall Clark,
Forest Supervisor, Carson National Forest.

[FR Doc. 2010-12751 Filed 5-26-10; 8:45 am]

BILLING CODE 3410-11-P